DEPARTMENT OF THE INTERIOR

Bureau of Land Management

[LLNVE02000 L14300000.EQ0000 241A; N-021861-02; 14-08807; MO#4500060500]

Notice of Realty Action: Classification for Lease and Conveyance for Recreation and Public Purposes of Public Land for a Shooting Range in Elko County, NV

AGENCY: Bureau of Land Management, Interior.

ACTION: Notice of Realty Action.

SUMMARY: The Bureau of Land Management (BLM) has examined and found suitable for classification for lease and subsequent conveyance under the provisions of the Recreation and Public Purposes (R&PP) Act, as amended, approximately 95.22 acres of public land in Elko County, Nevada. The Elko County proposes to use the land for the expansion of the Elko County Shooting Range.

DATES: Interested parties may submit written comments regarding this classification and conveyance of public land for a period of 45 days from the date of publication of this notice in the Federal Register until September 2, 2014.

ADDRESSES: Send written comments to the BLM, Tuscarora Field Manager, 3900 East Idaho Street, Elko, NV 89801.

FOR FURTHER INFORMATION CONTACT: Elisabeth Puentes, Realty Specialist, Tuscarora Field Office, at 775-753-0234, or email epuentes@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The parcel of public land proposed for classification and conveyance is located 3.5 miles west of the City of Elko, Nevada. Access to the parcel is provided by a dirt road, which exists off the western interchange of Interstate 80.

The land to be classified as suitable for conveyance is legally described as:

Mount Diablo Meridian

T. 34 N., R. 54 E., sec. 25, lots 1-4, and 8, excluding land previously classified August 9, 1985 under serial number N-21861.

The area described contains 95.22 acres.

The parcel is for the expansion of the Elko County Shooting Range. The expansion of the shooting range would include the development of a facility for youth shooting sports activities, firearm safety training, and other youth oriented shooting activities.

In addition to the classification for conveyance of the above referenced lands, the BLM intends to convey lands that were previously leased pursuant to the R&PP for the Elko County shooting range and that is adjacent to the proposed expansion area. The purpose of this notice is to reclassify those parcels as suitable for reconveyance. The acres leased for the existing shooting range were classified for lease on August 9, 1985, under serial number N-21861. The lands that are now proposed for conveyance, including land previously classified August 9, 1985 under serial number N-21861, are legally described as:

Mount Diablo Meridian

T. 34 N., R. 54 E., sec. 25, lots 1-4, 7 and 8.

The total area ultimately to be conveyed contains 255.33 acres.

The BLM conducted an Environmental Site Assessment/Land Transfer Audit (ESA/LTA) in September 2012 for all lands proposed for conveyance. The ESA/LTA concluded that lead, a hazardous material, is present in the shooting target areas and backdrop berms of the existing shorting range parcel. In general, the site is kept clean and no other issues were noted. The ESA/LTA found that the closest surface water is 1,320 feet away and ground water is expected to be 120 feet deep. There is no threat of water contamination. The alkaline soil retards the dissolution of lead, so mobilization of lead should not be an issue. Based on the existing data the transfer of the subject parcel to Elko County for the purpose of a rifle and shooting range does not present a significant risk to human health and the environment at this time. The land is not needed for any Federal purpose. The classification and disposals contemplated above are consistent with the Record of Decision and Approved Elko Resource Management Plan dated March 11, 1987.

The BLM also prepared an environmental assessment analyzing Elko County's application for the conveyance of 255.33 acres and the proposed development and management plan. Elko County has maintained the existing shooting range facility in accordance with the original management plan that was approved on September 26, 1985, as part of the N-21861 R&PP lease.

All minerals in these parcels are privately owned. A conveyance would be subject to the provisions of the R&PP Act, applicable regulations prescribed by the Secretary of the Interior, and the following reservation to the United States:

1. A reservation to the United States for ditches and canals constructed by the authority of the United States pursuant to the Act of August 30, 1890 (43 U.S.C. 945).

A conveyance would also be subject to the following terms and conditions:

1. All valid existing rights;

2. Right-of-way N-46266 for a buried fiber optic cable issued to AT&T Lease Administration, its successors or assigns, pursuant to the Act of October 21, 1976 (90 Stat. 2776, 43 U.S.C. 1761);

3. A limited reversionary provision that the title shall revert to the United States upon a finding, after notice and opportunity for a hearing that the patentee has not substantially developed the land in accordance with the approved plan of development 5 years after the date of patent. No portion of the land shall under any circumstances revert to the United States if any such portion had been used for solid waste disposal or for any other purpose that may result in disposal, placement, or release of any hazardous substances.

4. An indemnification clause protecting the United States from claims arising out of the lessee's use, occupancy, or operations on the leased lands;

5. Pursuant to the requirements established by Section 120(h) of the Comprehensive Environmental Response, Compensation and Liability Act (42 U.S.C. 9620(h)), as amended, notice is hereby given that the described lands have been examined and concluded that lead, a hazardous material, is present in the shooting target areas and backdrop berms on the existing shooting range parcel. In general, the site is kept clean and no other issues were noted. The ESA/LTA found that the closest surface water is 1,320 feet away and ground water is expected to be 120 feet deep. There is no threat of water contamination. The alkaline soil retards the dissolution of lead therefore; mobilization of lead should not be an issue.

Upon publication of this notice in the Federal Register, the parcels will be segregated from all other forms of appropriation under the public land laws, including the general mining laws, except for conveyance under the R&PP Act.

Interested parties may submit written comments on the suitability of the land for conveyance to Elko County for a shooting range. Comments are restricted to whether the land is physically suited for conveyance proposal, whether the conveyance will maximize the future use or uses of the land, whether the use is consistent with local planning and zoning, or if the use is consistent with State and Federal programs.

Interested parties may also submit written comments regarding the specific use proposed in the application and request for conveyance, and whether the BLM followed proper administrative procedures under the R&PP Act.

Before including your address, phone number, email address, or other personal identifying information for your comment, you should be aware that your entire comment—including your personal identifying information—may be made publicly available at any time. While you can ask us in your comment to withhold your personal identifying information from public review, we cannot guarantee that we will be able to do so.

Any adverse comments will be reviewed by the BLM Nevada State Director, who may sustain, vacate, or modify this realty action. In the absence of any adverse comments, the classification will become effective 60 days after the date of publication of this notice in the Federal Register. The lands will not be available for conveyance until after the classification becomes effective.

Authority: 43 CFR 2741.5(h).

Richard E. Adams,
Tuscarora Field Office Manager.

[FR Doc. 2014-16698 Filed 7-15-14; 8:45 am]

BILLING CODE 4310-HC-P